DEPARTMENT OF DEFENSE

Department of the Army

[Docket ID: USA-2016-HQ-0022]

Privacy Act of 1974; System of Records

AGENCY: Department of the Army, DoD.

ACTION: Notice to alter a system of records.

SUMMARY: The Department of the Army proposes to alter a system of records notice A0621-1 DASG, entitled “Long-Term Civilian Training Student Control Files.” The purpose of this system is the initiation and maintenance of contracts between the Army and civilian academic institutions for the purpose of sending Army Medical Department officers for long-term civilian training on a partially or fully funded program.

DATES: Comments will be accepted on or before July 15, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3827 or by calling (703) 428-7499.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/. The proposed systems reports, as required by 5 U.S.C. 552a(r) of the Privacy Act, as amended, were submitted on May 17, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000, 65 FR 77677).

Dated: June 10, 2016.
Aaron Siegel,
Alternate OSD Federal Register Liaison Officer, Department of Defense.

A0621-1 DASG

System name:

Long-Term Civilian Training Student Control Files (April 4, 2003, 68 FR 16484).

Changes:

* * * * *

System location:

Delete entry and replace with “Center for Professional Education and Training (CPET), 2450 Stanley Road, Bldg. 146, Suite 204, Joint Base San Antonio, TX 78234-7510.”

Categories of individuals covered by the system:

Delete entry and replace with “All Army Medical Department Active Duty personnel currently participating in long-term civilian training on a partially or fully funded basis.”

Categories of records in the system:

Delete entry and replace with “Individual's information, including: Name, date of birth, Social Security Number (SSN), home address, home and office telephone number, work email address, rank, security clearance, education level, grade, duty position, and orders. Course administrative data level: Name of school (city and state), official title of degree student expects to receive, date degree is expected, department and major field of study, subjects studied and grades received, academic plan, name and contact information of faculty advisor, absences which may impact course completion, academic difficulties and reasons for these difficulties, changes in academic plan, and course training requirements.

Financial data, including: Name of individual's bank, routing number, bank account number, bank address, and dollar amount of requested reimbursement funds.”

Authority for maintenance of the system:

Delete entry and replace with “10 U.S.C. 3013, Secretary of the Army; DoD Instruction 6000.13, Medical Manpower and Personnel; Army Regulation 351-3, Professional Education and Training Programs of The Army Medical Department; and E.O. 9397 (SSN), as amended.”

Purpose(s):

Delete entry and replace with “Initiation and maintenance of contracts between the Army and civilian academic institutions for the purpose of sending Army Medical Department officers for long-term civilian training on a partially or fully funded program.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

The DoD Blanket Routine Uses set forth at the beginning of the Army's compilation of systems of records notices may apply to this system. The complete list of DoD blanket routine uses can be found online at: http://dpcld.defense.gov/Privacy/SORNsIndex/BlanketRoutineUses.aspx”.

Policies and practices for storing, retrieving, accessing, retaining, and disposing of records in the system:

Storage:

Delete entry and replace with “Electronic storage media and paper records.”

Retrievability:

Delete entry and replace with “Individual's first and last name, rank, and academic program.”

Safeguards:

Delete entry and replace with “Paper records are maintained in lockable file cabinets. Access to computerized data is restricted by use of CACs and is accessible only by users with an authorized account. The system and electronic backups are maintained in controlled facilities that employ physical restrictions and safeguards to include security guards, identification badges, key cards, and locks.”

Retention and disposal:

Delete entry and replace with “The hardcopy of the paper files are destroyed by shredding when a student completes the training. The student's electronic academic file is maintained for two years.”

System manager(s) and address:

Delete entry and replace with “Chief, Center for Professional Education and Training, 2450 Stanley Road, Bldg. 146, Suite 204, Joint Base San Antonio, TX 78234-7510.”

Notification procedure:

Delete entry and replace with “Individuals seeking to determine whether information about themselves is contained in this system should address written inquiries to: Chief, Education Branch, U.S. Army Medical Department Center and School (AMEDDC&S), Center for Professional Education and Training, 2450 Stanley Road, Bldg. 146, Suite 204, Joint Base San Antonio, TX 78234-7510.

The individual should provide the full names, SSN, current address, current unit of assignment (if on active duty), sponsoring program and calendar years in training, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record access procedures:

Delete entry and replace with “Individuals seeking access to records about themselves contained in this record system should address written inquiries to the: Chief, Education Branch, U.S. Army Medical Department Center and School (AMEDDC&S), Center for Professional Education and Training, 2450 Stanley Road, Bldg. 146, Suite 204, Joint Base San Antonio, TX 78234-7510.

The individual should provide the full names, SSN, current address, current unit of assignment (if on active duty), sponsoring program and calendar years in training, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Contesting record procedures:

Delete entry and replace with “The Army's rules for accessing records, contesting contents, or appealing initial agency determinations are contained in 32 CFR part 505, Army Privacy Program, or may be obtained from the system manager.”

Record source categories:

Delete entry and replace with “From the individual, Army records and reports, correspondence with the selecting academic institution.”

* * * * *

[FR Doc. 2016-14155 Filed 6-14-16; 8:45 am]

BILLING CODE 5001-06-P